DEPARTMENT OF COMMERCE

National Oceanic and Atmospheric Administration

RIN 0648-XE874

Mid-Atlantic Fishery Management Council (MAFMC); Public Meeting

AGENCY: National Marine Fisheries Service (NMFS), National Oceanic and Atmospheric Administration (NOAA), Commerce.

ACTION: Notice of a public meeting.

SUMMARY: The Mid-Atlantic Fishery Management Council's (MAFMC) Northeast Trawl Advisory Panel (NTAP) will hold a meeting.

DATES: The meeting will be held on Thursday, September 29, 2016, from 9 a.m. to 5 p.m. For agenda details, see SUPPLEMENTARY INFORMATION.

ADDRESSES: The meeting will be held at the Courtyard Marriott Boston Logan Airport, 225 William McClellan Highway, Boston, MA 02128; telephone: (617) 569-5250.

Council address: Mid-Atlantic Fishery Management Council, 800 N. State Street, Suite 201, Dover, DE 19901; telephone: (302) 674-2331.

FOR FURTHER INFORMATION CONTACT: Christopher M. Moore, Ph.D., Executive Director, Mid-Atlantic Fishery Management Council; telephone: (302) 526-5255. The Council's Web site, www.mafmc.org will also have details on the proposed agenda and briefing materials.

SUPPLEMENTARY INFORMATION:

Agenda

The NTAP is a joint advisory panel of the Mid-Atlantic and New England Fishery Management Councils composed of Council members, fishing industry, academic, and government and non-government fisheries experts. The NTAP was established to bring commercial fishing, fisheries science, and fishery management professionals in the northeastern U.S. together to identify concerns about regional research survey performance and data, to identify methods to address or mitigate these concerns, and to promote mutual understanding and acceptance of the results of this work among their peers and in the broader community. Topics to be discussed at the meeting include membership changes; report of the NTAP Working Group meeting (August 2, 2016); results of witch flounder gear efficiency study and next steps for stock assessment; results of research on increasing the number of survey stations; group discussion on initial planning for 10 to 20-day field program; introduction of NEFSC Working Group on transition options (i.e., to transition to industry based sampling platforms—in full or in part); and next steps for NTAP including discussion about additional funding for future meetings.

Special Accommodations

The meeting is physically accessible to people with disabilities. Requests for sign language interpretation or other auxiliary aid should be directed to M. Jan Saunders, (302) 526-5251, at least 5 days prior to the meeting date.

Dated: September 6, 2016.
Tracey L. Thompson,
Acting Deputy Director, Office of Sustainable Fisheries, National Marine Fisheries Service.

[FR Doc. 2016-21730 Filed 9-8-16; 8:45 am]

BILLING CODE 3510-22-P